DEPARTMENT OF DEFENSE

Office of the Secretary

[Docket ID: DOD-2009-OS-0182]

Privacy Act of 1974; System of Records

AGENCY: Office of the Secretary, DoD.

ACTION: Notice to add a system of records.

SUMMARY: The Office of the Secretary of Defense proposes to add a system of records to its inventory of records systems subject to the Privacy Act of 1974 (5 U.S.C. 552a), as amended.

DATES: This proposed action would be effective without further notice on January 19, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from (see FOR FURTHER INFORMATION CONTACT).

The proposed system report, as required by 5 U.S.C. 552a(r) of the Privacy Act of 1974, as amended, was submitted on December 10, 2009, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 14, 2009.
Mitchell S. Bryman,
Alternate OSD Federal Register Liaison Officer, Department of Defense.

DUSDA 14

System name:

Science, Mathematics, and Research Transformation Information Management System.

System location:

Defense Technical Information Center (DTIC), Directorate of User Services, Marketing and Registration Division, Attn: DTIC-BC (Registration), 8725 John J. Kingman Road, Suite 0944, Fort Belvoir, VA 22060-6218.

Categories of individuals covered by the system:

Applicants and recipients of the Science, Mathematics and Research for Transformation (SMART) Scholarship for Service Program.

Categories of records in the system:

Applicants and participants periodically update personal information including, full name and any alias, Social Security Number (SSN), home and school address; home and mobile phone number; and school and alternate e-mail addresses.

Additional information collected in this system include Science, Mathematics and Research for Transformation Program identification number, resumes and/or curriculum vitae, publications, U.S. Citizenship and Selective Service registration status, state of residency, employment status, date, state, and country of birth; demographics, veterans preference. Information on academic background and program information such as, academic status, assessment test scores, copies of transcripts, projected and actual graduation date, and other related information.

Science, Mathematics and Research for Transformation Program employees enter other program information unique to each participant that include projected and actual service commitment start and end dates and projected and actual award amounts.

Authority for maintenance of the system:

5 U.S.C. 3304, Competitive Service, et seq.; 20 U.S.C. 17, National Defense Education Program, as amended; 10 U.S.C. 2192a, Science, Mathematics, and Research for Transformation (SMART) Defense Education Program; and E.O. 9397 (SSN), as amended.

Purpose(s):

To enable Science, Mathematics and Research for Transformation officials to select qualified applicants to be awarded Science, Mathematics and Research for Transformation scholarships and monitor participant progress and status through the program.

Routine uses of records maintained in the system, including categories of users and the purposes of such uses:

In addition to those disclosures generally permitted under 5 U.S.C. 552a(b) of the Privacy Act of 1974, these records may specifically be disclosed outside the Department of Defense as a routine use pursuant to 552a(b)(3) as follows:

The Department of Defense ‘Blanket Routine Uses' set forth at the beginning of Office of the Secretary of Defense's compilation of systems of records notices apply to this system.

Policies and practices for storing, retrieving, accessing, retaining, and disposing of records in the system:

Storage:

Paper records will be stored in a secure office space and protected by guards, locks and administrative procedures. Electronic records will be stored and accessed through a secure server.

Retrievability:

Electronic and paper records are retrieved by name and/or Science, Mathematics and Research for Transformation Program Identification number.

Safeguards:

Automated records are maintained in controlled areas accessible only to authorized personnel. These areas are restricted to personnel with a valid requirement and authorization to enter. Physical entry is restricted by the use of a cipher lock. Back-up data is stored in a locked room. The system complies with the DoD Information Assurance Certification and Accreditation Process. Access to records is restricted to individuals who require the data in the performance of official duties.

Retention and disposal:

Disposition pending approval of records disposition schedule by the National Records and Administration Agency.

System manager(s) and address:

Deputy Program Manager, Science, Mathematics and Research for Transformation Scholarship for Service Program, Naval Postgraduate School, 1 University Circle, Herrmann Hall Room 061, Monterey, CA 93943-5098.

Notification procedure:

Individuals seeking to determine whether this system of records contains information about themselves may address their inquiries to the Deputy Program Manager, Science, Mathematics and Research for Transformation Scholarship for Service Program, Naval Postgraduate School, 1 University Circle, Herrmann Hall Room 061, Monterey, CA 93943-5098.

Requests should contain the individual's full name and Science, Mathematics and Research for Transformation Program identification number associated with the record including the name and number of this system of records notice and be signed.

Record access procedures:

Individuals seeking access to information about themselves contained in this system should address written inquiries to the Office of the Secretary of Defense/Joint Staff Freedom of Information Act Requester Service Center, Office of the Freedom of Information, Washington Headquarters Services, 1155 Defense Pentagon, Washington, DC 20301-1155.

Requests should contain the individual's full name and Science, Mathematics and Research for Transformation Program identification number associated with the record including the name and number of this system of records notice and be signed.

Contesting record procedures:

The Office of the Secretary of Defense rules for accessing records, for contesting contents and appealing initial agency determinations are published in Office of the Secretary of Defense Administrative Instruction 81; 32 CFR part 311; or may be obtained from the system manager.

Record source categories:

Information is received from individuals and Science, Mathematics and Research for Transformation Program employees.

Exemptions claimed for the system:

None.

[FR Doc. E9-29996 Filed 12-16-09; 8:45 am]

BILLING CODE 5001-06-P